DEPARTMENT OF HOMELAND SECURITY

Coast Guard

33 CFR Part 165

[Docket Number USCG-2026-0069]

RIN 1625-AA00

Safety Zone; Philippine Sea, Pacific Ocean, Guam

AGENCY: Coast Guard, Department of Homeland Security.

ACTION: Temporary final rule.

SUMMARY: The Coast Guard is establishing a temporary safety zone for certain navigable waters of the Philippine Sea in the Pacific Ocean north of Andersen Air Force Base, Guam. The safety zone is needed to protect personnel, vessels, and the marine environment from potential hazards created by a Department of War small Unmanned Aircraft System (sUAS) testing event. Entry of vessels or persons into this zone is prohibited unless specifically authorized by the Captain of the Port, Forces Micronesia/Sector Guam.

DATES: This rule is effective from 1 p.m. ChST on January 26, 2026 through 10 p.m. ChST on January 30, 2026. For the purposes of enforcement, actual notice by Marine Broadcast will be used daily from 0500-2200 January 26, 2026, until January 30, 2026.

ADDRESSES: To view available documents go to https://www.regulations.gov and search for USCG-2026-0069.

FOR FURTHER INFORMATION CONTACT: If you have questions about this rule, contact MSTC Laurel Siegrist, Forces Micronesia/Sector Guam Waterways Management Division, U.S. Coast Guard; telephone 671-686-0092, or email WWMGuam@uscg.mil.

SUPPLEMENTARY INFORMATION:

I. Table of Abbreviations

CFR Code of Federal Regulations

COTP Captain of the Port

DHS Department of Homeland Security

FR Federal Register

NPRM Notice of proposed rulemaking

§ Section

sUAS small Unmanned Aircraft System

U.S.C. United States Code

DoW Department of War

FBI Federal Bureau of Investigations

II. Background and Authority

The Coast Guard was requested by the Department of War's Strategic Capabilities Office to provide a safety zone for a sUAS testing event. The Captain of the Port (COTP) Forces Micronesia/Sector Guam has determined that potential hazards associated with this military testing event are a safety concern for anyone on the waters in the vicinity of the operation. Therefore, the COTP is issuing this rule under the authority in 46 U.S.C. 70034, which is needed to protect personnel, vessels, and the marine environment in the navigable waters within the safety zone.

The Coast Guard is issuing this temporary rule without prior notice and comment under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impracticable and contrary to the public interest. The event requires the establishment of a safety zone by January 26, 2026, to ensure the safety of the public and marine environment. This short timeframe makes it impracticable to publish an NPRM and receive and respond to public comments.

For the same reasons, the Coast Guard finds that under 5 U.S.C. 553(d)(3), good cause exists for making this rule effective less than 30 days after publication in the Federal Register. Delaying the effective date of this rule would be contrary to the public interest because immediate action is needed to provide for the safety of personnel and vessels near the DoW sUAS testing event.

III. Discussion of the Rule

This rule establishes a temporary safety zone from January 26, 2026, through January 30, 2026, during specific enforcement periods to include 1300 to 1700 ChST on January 26, 2026; from 0530 to 1530 ChST on January 27, 2026; from 1430 to 2200 ChST on January 28, 2026; from 1200 to 2200 ChST on January 29, 2026; and TBD as needed January 30, 2026. The safety zone will cover all navigable waters of the Philippine Sea in a defined area north of Andersen Air Force Base within the boundaries from 13-37.50N x 144-53.50E to 13-38.50N x 144-51.00E to 13-41.00N x 144-51.00E to 13-41.00N x 144-53.50E and back. No vessel or person will be permitted to enter the safety zone without obtaining permission from the COTP or their designated representative.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

The Coast Guard certifies under 5 U.S.C. 605(b) that this proposed rule would not have a significant economic impact on a substantial number of small entities for the following reasons.

Vessel traffic will be able to safely transit around this regulated area. The enforcement period is during a time when vessel traffic is normally low. In addition, the Coast Guard will issue a Broadcast Notice to Mariners via VHF FM marine channel 16, which will allow small entities to adjust their transit plans, and the rule is primarily within military property and is in the best interest of national defense.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a safety zone. It is categorically excluded from further review under paragraph L60(d) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T14-0069 to read as follows:

§ 165.T14-0069 Safety Zone; Philippine Sea, Guam.

(a) Location. The following area is a safety zone: All waters of the Philippine Sea in the Pacific Ocean, from surface to bottom, encompassed by a line connecting the following points, beginning at 13°37′30″ N, 144°53′30″ E; thence to 13°38′30″ N, 144°51′00″ E; thence to 13°41′00″ N, 144°51′00″ E; thence to 13°41′00″ N, 144°53′50″ E; and back to the point of origin. These coordinates are based on the World Geodetic System (WGS 84).

(b) Definitions. As used in this section, designated representative means a Coast Guard Patrol Commander, including a Coast Guard coxswain, petty officer, or other officer operating a Coast Guard vessel and a Federal, State, and local officer designated by or assisting the Captain of the Port (COTP) Forces Micronesia/Sector Guam in the enforcement of the safety zone.

(c) Regulations. (1) Under the general safety zone regulations in subpart C of this part, you may not enter the safety zone described in paragraph (a) of this section unless authorized by the COTP or the COTP's designated representative.

(2) To seek permission to enter, contact the COTP or the COTP's representative on VHF-FM channel 16 or by telephone at (671) 355-4824. Those in the safety zone must comply with all lawful orders or directions given to them by the COTP or the COTP's designated representative.

(d) Enforcement periods. This section will be enforced from 1300 to 1700 ChST on January 26, 2026; from 0530 to 1530 ChST on January 27, 2026; from 1430 to 2200 ChST on January 28, 2026; from 1200 to 2200 ChST on January 29, 2026; and at times announced by Marine Broadcast as needed on January 30, 2026.

Jessica S. Worst,
Captain, U.S. Coast Guard, Captain of the Port, Forces Micronesia/Sector Guam.

[FR Doc. 2026-01064 Filed 1-20-26; 8:45 am]

BILLING CODE 9110-04-P